DEPARTMENT OF STATE

[Public Notice 5060]

Bureau of Educational and Cultural Affairs (ECA) Request for Grant Proposals: Africa Workforce Development

Announcement Type: New Grant.

Funding Opportunity Number: ECA/PE/C/NEAAF-05-49.

Catalog of Federal Domestic Assistance Number: 00.000.

Key Dates: Application Deadline: June 6, 2005.

Executive Summary: The Office of Citizen Exchanges of the Bureau of Educational and Cultural Affairs, United States Department of State, announces an open competition for grants to support exchanges and training programs promoting “Africa Workforce Development.” U.S. public and private non-profit organizations meeting the provisions described in Internal Revenue Code section 26 U.S.C. 501(c)(3) may submit proposals to develop and implement exchanges and training programs involving participants from Sub-Saharan Africa, including training conducted in Sub-Saharan Africa. These U.S. organizations should provide evidence of a current expertise in Sub-Saharan Africa, or experience working in Sub-Saharan Africa, and work in conjunction with Sub-Saharan African NGO partners. Three grants, not exceeding $133,333 each, are anticipated, although more awards could be accommodated if they are at smaller amounts.

I. Funding Opportunity Description

Authority: Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through the Conference Report accompanying the FY-2005 Consolidated Appropriations Act (Pub. L. 108-447) which earmarks $400,000 to support Africa Workforce Development.

Purpose: The Bureau seeks proposals for an exchange program on African Workforce Development. U.S.-African partnership is emphasized as a mutually beneficial, direct and efficient method of promoting this goal. Partnerships promote the interests and long-term commitment of African and American participants going beyond U.S. government financing. The Bureau encourages applicants to consider carefully the choice of target countries. Applicants should research the work of development agencies (such as USAID, UN agencies) on the target themes, and select countries for which there has been limited investment on the issue. Applicants are encouraged to contact the Public Affairs Sections (PAS) in U.S. Embassies in Africa, and the Office of Citizen Exchanges, to discuss proposed activities and their relevance to mission priorities.

Proposals should focus on one or two countries rather than a large group so as to maximize impact. The Bureau offers the following programming ideas and suggestions.

Africa Workforce Development: The purpose of this program is to enhance Workforce Development efforts in Sub-Saharan Africa through Citizen Exchanges. ECA has set the following broad goals for the program this year:

• To foster a more productive and fully employed workforce in Africa through collaboration between U.S. and African workforce development specialists;

• To develop professional and personal linkages between African and U.S. host institutions and communities that will lead to sustained interaction;

• To promote mutual understanding between cultures and societies in the U.S. and Africa.

The Office realizes that there are many different approaches to workforce development, and is open to a wide variety of program plans. However, in order to be eligible for consideration, each proposal must explain its methodology for assessing workforce development needs and explain how its choice of needs to be addressed in the proposed program is relevant to the focus country(ies). In addition, the Office recommends that each applicant consider addressing the following objectives in its plan:

• Assist citizens in making the transition from academic studies to participation in the workforce;

• Assist citizens in learning skills and attitudes which make them more employable;

• Guide citizens in seeking jobs and in carrying them out satisfactorily;

• Provide training in information technology;

• Assist Africans in identifying workforce needs and developing plans to ameliorate those needs;

• Develop programs which are adaptable to local and individual needs; and

• Develop programs that will attract and maintain the attention of citizens, encouraging their initiative and commitment.

The commitment of African partners will be important to long-term program success, and applicants should consider the possibility of selecting African partners through a competitive process to assess their commitment and capability.

II. Award Information

Type of Award: Grant Agreement. ECA's level of involvement in this program is listed under number I above.

Fiscal Year Funds: 2005.

Approximate Total Funding: $400,000.

Approximate Number of Awards: 3.

Approximate Average Award: $133,333.

Anticipated Award Date: Pending availability of funds, September 1, 2005.

Anticipated Project Completion Date: September 1, 2007.

III. Eligibility Information

III.1. Eligible Applicants

Applications may be submitted by public and private non-profit organizations meeting the provisions described in Internal Revenue Code section 26 U.S.C. 501(c)(3).

III.2. Cost Sharing or Matching Funds

Proposals that clearly demonstrate significant cost sharing—with 25% of the amount requested from ECA as the preferred target—will be judged more competitive under review criterion #10.

When cost sharing is offered, it is understood and agreed that the applicant must provide the amount of cost sharing as stipulated in its proposal and later included in an approved grant agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements

Grants awarded to eligible organizations with less than four years of experience in conducting international exchange programs will be limited to $60,000. If one or more grants are approved at or below that limit, it will affect the number and amounts of other grants; however, the total amount available to be awarded across all grants in this competition is $400,000.

IV. Application and Submission Information

Note: Please read the complete Federal Register announcement before sending inquiries or submitting proposals. Once the RFGP deadline has passed, Bureau staff may not discuss this competition with applicants until the proposal review process has been completed.

IV.1. Contact Information to Request an Application Package

To obtain an application package for this competition, please see IV.2 below.

IV.2. To Download a Solicitation Package Via Internet

The entire Solicitation Package may be downloaded from the Bureau's Web site at http://exchanges.state.gov/education/rfgps/menu.htm. Please read all information before downloading.

IV.3. Content and Form of Submission

Applicants must follow all instructions in the Solicitation Package. The original and ten copies of the application should be sent per the instructions under IV.3e. “Submission Dates and Times section” below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory Proposal Submission Instructions (PSI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1. Adherence to All Regulations Governing the J Visa. The Office of Citizen Exchanges of the Bureau of Educational and Cultural Affairs is the official program sponsor of the exchange program covered by this RFGP, and an employee of the Bureau will be the “Responsible Officer” for the program under the terms of 22 CFR part 62, which covers the administration of the Exchange Visitor Program (J visa program). Under the terms of 22 CFR part 62, organizations receiving grants under this RFGP will be third parties “cooperating with or assisting the sponsor in the conduct of the sponsor's program.” The actions of grantee program organizations shall be “imputed to the sponsor in evaluating the sponsor's compliance with” 22 CFR part 62. Therefore, the Bureau expects that any organization receiving a grant under this competition will render all assistance necessary to enable the Bureau to fully comply with 22 CFR part 62 et seq.

The Bureau of Educational and Cultural Affairs places great emphasis on the secure and proper administration of Exchange Visitor (J visa) Programs and adherence by grantee program organizations and program participants to all regulations governing the J visa program status. Therefore, proposals should explicitly state in writing that the applicant is prepared to assist the Bureau in meeting all requirements governing the administration of Exchange Visitor Programs as set forth in 22 CFR part 62. If your organization has experience as a designated Exchange Visitor Program Sponsor, the applicant should discuss their record of compliance with 22 CFR part 62 et seq., including the oversight of their Responsible Officers and Alternate Responsible Officers, screening and selection of program participants, provision of pre-arrival information and orientation to participants, monitoring of participants, proper maintenance and security of forms, record-keeping, reporting and other requirements.

The Office of Citizen Exchanges of ECA will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547. Telephone: (202) 401-9810. FAX: (202) 401-9809.

IV.3d.2. Diversity, Freedom and Democracy Guidelines. Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the “Support for Diversity” section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation. Proposals must contain an evaluation plan that describes how the applicant organization intends to gather data on the project's effectiveness in achieving its outcomes. Competitive evaluation plans will include the following four components:

a. A restatement of anticipated outcomes;

b. A list of data the applicant would collect in order to assess progress toward each outcome;

c. A description of how the applicant would collect the information (for example, through surveys) and a draft timeline for collecting data;

d. Draft questionnaires, surveys, focus group questions, or other instruments with which the applicant would gather quantitative and qualitative data. Proposals should indicate how each instrument would provide information on progress toward each project outcome.

Statement of Anticipated Outcomes: Proposals should indicate the category of each outcome such as participant satisfaction, participant learning, participant behavior, or institutional change.

Data To Be Collected: Proposals should list the data that applicants would collect. Applicants may use quantitative data or qualitative data to measure progress toward outcomes. Below are examples of data that applicants might collect for each type of outcome as well as sample survey questions that applicants might use to gather this data:

Example 1:

Outcome: Participants are satisfied with the exchange experience.

Outcome type: Participant Satisfaction.

Data to be collected: Percent of participants who express satisfaction with the exchange experience based on an average of several factors.

Sample question: On a scale of one to five (1 = very dissatisfied, 5 = very satisfied), please rate your satisfaction with (a) project administration, (b) content, (c) variety of experiences, (d) relevance to professional or educational development.

Example 2:

Outcome: Participants increase their abilities to organize volunteer activities in their home communities.

Outcome type: Participant Learning.

Data to be collected: Percent of participants who improved their abilities in areas necessary to organize volunteer activities.

Sample question: On a scale of one to four (1 = no or very limited ability, 4 = substantial ability), please rate your ability in the following areas: (a) Volunteer recruitment, (b) volunteer management, (c) community outreach, (d) resource management.

Example 3:

Outcome: Participants increase their participation and/or responsibility in community or civil society.

Outcome type: Participant Behavior.

Data to be collected: Percent of participants who increase their participation or level of responsibility.

Sample question: As a direct result of your participation in the exchange, have you done or received any of the following in your community (answer yes or no to each item): (a) Assumed a leadership role or position in your community, (b) organized or initiated new activities or projects in your community, (c) established a new organization in your community.

Example 4:

Outcome: Increased collaboration and linkages.

Outcome type: Institutional changes.

Data to be collected: Percent of participants who establish or continue professional collaboration.

Sample question: Have you established or continued any professional collaboration that grew out of your exchange experience? (Answer yes or no)

Methods and Timeline: Applicant organizations should plan to gather data a minimum of three times during the project: (1) Before exchange activities, (2) following exchange activities, and (3) as a follow-up (approximately six months to a year after exchange activities). The exact timing depends on the nature of the project itself. Proposals should suggest grant periods of sufficient length to collect follow-up information.

Applicants should consider the timing of data collection for each level of outcome. For example, grantees may measure participant learning at the end of an activity since this is a shorter-term outcome. Behavioral and institutional outcomes are longer-term and it might not be possible to adequately assess them until a follow-up survey. Pre-program surveys should collect baseline data as appropriate.

Draft data collection instruments: Proposals should include sample surveys, lists of questions, or other instruments that the applicant organization proposes to use. Applicants should include samples of instruments they would use during each evaluation activity (pre-program, post-program, and follow-up).

Evaluation plans should describe how the applicant will tabulate data, where the data will be kept, and who will have access to such data. Interim and final reports should provide summary data in tabular and graphic form as well as tabulated raw data. ECA may ask for immediate notice of information that indicates significant progress or delay in achieving outcomes. All data collected, including survey responses and contact information, must be maintained for a minimum of three years and provided to the Bureau upon request.

IV.3e. Please take the following information into consideration when preparing your budget:

IV.3e.1. Applicants must submit a comprehensive budget for the entire program. There must be a summary budget as well as breakdowns reflecting both administrative and program budgets. Applicants may provide separate sub-budgets for each program component, phase, location, or activity to provide clarification.

IV.3e.2. Allowable costs for the program include the following: (1) Direct Program Expenses (including general program expenses, such as orientation and program-related supplies, educational materials, traveling campaigns, consultants, interpreters, and room rental; and participant program expenses, such as domestic and international travel and per diem).

(2) Administrative Expenses, including indirect costs (i.e. salaries, telephone/fax, and other direct administrative costs).

(3) Travel costs for visa processing purposes: All foreign participants funded by any grant agreement resulting from this competition must travel on J-1 visas. Failure to secure a J-1 visa for the foreign participant will preclude charging the participant's cost to the grant agreement. Participants will apply for J-1 visas only after the Office of Citizen Exchanges and the mission Public Affairs Section or consulate have approved their participation in this program. The Office of Citizen Exchanges will issue DS-2019 forms and deliver to foreign program visitors through the mission Public Affairs Section. All J visas for African program visitors must be issued by the Posts in the target country, so proposals should include costs for potential participants to travel to those Posts to pick up DS-2019 forms and for visa interviews and processing.

Please refer to the Solicitation Package for complete budget guidelines and formatting instructions.

IV.3f. Submission Dates and Times: Application Deadline Date: June 6, 2005.

Explanation of Deadline and Shipping Method: Due to heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. ECA will not notify you upon receipt of application. Delivery of proposal packages may not be made via local courier service or in person for this competition. Faxed documents will not be accepted at any time. Only proposals submitted as stated above will be considered. Applications may not be submitted electronically at this time.

Applicants must follow all instructions in the Solicitation Package.

Important note: When preparing your submission please make sure to include one extra copy of the completed SF-424 form and place it in an envelope addressed to “ECA/EX/PM.”

The original and nine copies of the application should be sent to: U.S. Department of State, SA-44, Bureau of Educational and Cultural Affairs, Ref.: ECA/PE/C/NEAAF-05-49, Program Management, ECA/EX/PM, Room 534, 301 4th Street, SW., Washington, DC 20547.

Along with the Project Title, all applicants must enter the above Reference Number in Box 11 on the SF-424 contained in the mandatory Proposal Submission Instructions (PSI) of the solicitation document.

IV.3g. Intergovernmental Review of Applications: Executive Order 12372 does not apply to this program.

Applicants must also submit the “Executive Summary” and “Proposal Narrative” sections of the proposal in text (.txt) format on a PC-formatted disk. The Bureau will provide these files electronically to the appropriate Public Affairs Section(s) at the U.S. embassy(ies) for its (their) review.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards grants resides with the Bureau's Grants Officer.

Review Criteria

Technically eligible applications will be competitively reviewed according to the criteria stated below. These criteria are not rank ordered and all carry equal weight in the proposal evaluation:

1. Quality of the program conceptualization: Proposals should exhibit originality, substance, precision, and relevance to the Bureau's mission.

2. Program planning: Detailed agenda and relevant work plan should demonstrate substantive undertakings and logistical capacity. Agenda and plan should adhere to the program overview and guidelines described above.

3. Ability to achieve program objectives: Objectives should be “smart” (specific, measurable, attainable, results-oriented and placed in a reasonable time frame). Proposals should clearly demonstrate how the institution will meet the program's objectives and plan.

4. Multiplier effect/impact: Proposed programs should strengthen long-term mutual understanding, including maximum sharing of information and establishment of long-term institutional and individual linkages.

5. Support of Diversity: Proposals should demonstrate substantive support of the Bureau's policy on diversity. Achievable and relevant features should be cited in both program administration (selection of participants, program venue and program evaluation) and program content (orientation and wrap-up sessions, program meetings, resource materials and follow-up activities).

6. Institutional Capacity: Proposed personnel and institutional resources should be adequate and appropriate to achieve the program or project's goals. In order to qualify for a grant of more than $60,000, the proposal must demonstrate an institutional record of conducting more than four years of successful international exchanges. If the applicant has received previous support from the ECA Bureau, the proposal should show responsible fiscal management and full compliance with ECA Bureau reporting requirements.

7. Post-grant Activities: Proposals should provide a plan for continued follow-on activity (without Bureau support) ensuring that Bureau supported programs are not isolated events.

8. Project Evaluation: Proposals should include a plan to evaluate the activity's success, both as the activities unfold and at the end of the program. The plan should follow the guidance given in Section IV.3d.3 above.

9. Cost-effectiveness: The overhead and administrative components of the proposal, including salaries and honoraria, should be kept as low as possible. All other items should be necessary and appropriate.

10. Cost-sharing: Proposals should maximize cost-sharing through other private sector support as well as institutional direct funding contributions. Note Section III.2 above which states that proposals that clearly demonstrate significant cost sharing—with 25% of the amount requested from ECA as the preferred target—will be judged more competitive under this criterion.

11. Value to U.S.-Partner Country Relations: Proposed projects should receive positive assessments by the U.S. Department of State's geographic area desk and overseas officers of program need, potential impact, and significance in the partner country(ies).

VI. Award Administration Information

VI.1. Award Notices

Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2. Administrative and National Policy Requirements

Terms and Conditions for the Administration of ECA agreements include the following: Office of Management and Budget Circular A-122, “Cost Principles for Nonprofit Organizations.” Office of Management and Budget Circular A-21, “Cost Principles for Educational Institutions.”

OMB Circular A-87, “Cost Principles for State, Local and Indian Governments.”

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please refer to the following Web sites for additional information: http://www.whitehouse.gov/omb/grants.

http://exchanges.state.gov/education/grantsdiv/terms.htm#articleI.

VI.3. Reporting Requirements

Grantees must provide ECA with a hard copy original plus two copies of the following reports:

1. A final program and financial report no more than 90 days after the expiration of the award;

2. Quarterly program and financial reports.

Grantees will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VII. Agency Contacts

For questions about this announcement, contact: James E. Ogul, Office of Citizens Exchange, ECA/PE/C/NEA-AF, Room 216, U.S. Department of State, SA-44, 301 4th Street, SW., Washington, DC 20547, Telephone: 202-453-8161, Fax: 202-453-8168, Internet address: ogulje@state.gov. All correspondence with the Bureau concerning this RFGP should reference the above title and number ECA/PE/C/NEAAF-05-49.

Please read the complete Federal Register announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: April 28, 2005.
C. Miller Crouch,
Principal Deputy Assistant Secretary, Bureau of Educational and Cultural Affairs, Department of State.

[FR Doc. 05-8990 Filed 5-4-05; 8:45 am]

BILLING CODE 4710-05-P